DEPARTMENT OF HEALTH AND HUMAN SERVICES

Centers for Disease Control and Prevention; National Center for Environmental Health/Agency for Toxic Substances and Disease Registry

The Community and Tribal Subcommittee of the Board of Scientific Counselors (BSC), Centers for Disease Control and Prevention (CDC), National Center for Environmental Health/Agency for Toxic Substances and Disease Registry (NCEH/ATSDR): Meeting

In accordance with section 10(a)(2) of the Federal Advisory Committee Act (Pub. L. 92-463), The Centers for Disease Control and Prevention, NCEH/ATSDR announces the following subcommittee meeting:

Name: Community and Tribal Subcommittee (CTS).

Time and Date: 8:30 a.m.-4:30 p.m., May 3, 2006.

Place: Century Center, 1825 Century Boulevard, Atlanta, Georgia 30345.

Status: Open to the public, limited by the available space. The meeting room accommodates approximately 30 people.

Purpose: Under the charge of the BSC, NCEH/ATSDR, the CTS will provide the BSC, NCEH/ATSDR with a forum for community and tribal first-hand perspectives on the interactions and impacts of NCEH/ATSDR's national and regional policies, practices and programs.

Matters to Be Discussed: The meeting agenda will include a discussion on Environmental Justice—development of a strategy and ideas for implementation within the agencies; a presentation of the Anniston, Alabama Community Resource Directory Project; a presentation of the Bell Gardens, California Asthma Study; and an update of tribal requested Projects.

Items are subject to change as priorities dictate.

The Director, Management Analysis and Services Office, has been delegated the authority to sign Federal Register notices pertaining to announcements of meetings and other committee management activities for both CDC and NCEH/ATSDR.

Dated: April 5, 2006.
Alvin Hall,
Director, Management Analysis and Services Office, Centers for Disease Control and Prevention.

[FR Doc. E6-5358 Filed 4-11-06; 8:45 am]

BILLING CODE 4163-18-P